NATIONAL ARCHIVES AND RECORDS ADMINISTRATION

[NARA-2015-065]

National Industrial Security Program Policy Advisory Committee (NISPPAC); Meeting

AGENCY: Information Security Oversight Office (ISOO), National Archives and Records Administration (NARA).

ACTION: Notice of Federal Advisory Committee meeting.

SUMMARY: In accordance with the Federal Advisory Committee Act (5 U.S.C. app 2) and implementing regulation 41 CFR 101-6, NARA announces an upcoming committee meeting.

DATES: The meeting will be on November 18, 2015, from 10:00 a.m. to 12:00 p.m. EDT.

ADDRESSES: National Archives and Records Administration, 700 Pennsylvania Avenue NW., Archivist's Reception Room (Room 105), Washington, DC 20408.

FOR FURTHER INFORMATION CONTACT: Robert Tringali, Program Analyst, by mail at ISOO, National Archives Building, 700 Pennsylvania Avenue NW., Washington, DC 20408, by telephone at 202-357-5335, or by email at robert.tringali@nara.gov, or you may contact the NISPPAC at NISPPAC@nara.gov. Submit names of attendees to ISOO at ISOO@nara.gov.

SUPPLEMENTARY INFORMATION: The purpose of this meeting is to discuss National Industrial Security Program policy matters. The meeting will be open to the public. However, due to space limitations and access procedures, you must submit the name and telephone number of individuals planning to attend to the Information Security Oversight Office (ISOO) no later than Friday, November 13, 2015. ISOO will provide additional instructions for accessing the meeting's location.

Dated: September 30, 2015.
Patrice Little Murray,
Committee Management Officer.

[FR Doc. 2015-25379 Filed 10-5-15; 8:45 am]

BILLING CODE 7515-01-P